Proclamation 10749 of May 3, 2024

Public Service Recognition Week, 2024

By the President of the United States of America

A Proclamation

Our Nation's over 20 million public servants work hard to deliver for our families, communities, and country. Their work matters to people's everyday lives: They keep neighborhoods safe and the buses running, and build futures for people in their hometowns. They are the lifeblood of our democracy, acting as brave first responders, election workers, and service members defending our country. This week, we recognize our Nation's public servants, who do the humble yet critical work of keeping our country running.

When I came into office, our country was facing an unprecedented crisis—a pandemic was raging and the economy was reeling. But we turned things around—in no small part because of our public servants. I signed the American Rescue Plan, providing $350 billion to ensure public servants could stay on the job. That money put more police officers in our communities and more teachers and education support professionals in our schools. It went directly to every community in America so public servants could decide how to best help their communities. Because of public servants' work, child care centers stayed open, families stayed in their homes, and small businesses stayed afloat. At the same time, this legislation also made one of the biggest investments ever in public safety. Our public servants have done an incredible job of putting these resources to work by hiring more officers for accountable, effective community policing and supporting violence intervention programs that help prevent crime in the first place. Together, we created new jobs, new businesses, and new hope for folks across the country.

Our Nation relies on our public servants every day, and they deserve to be treated with dignity and respect. That is why I issued an Executive Order to increase the minimum wage for Federal employees to $15 per hour, ensuring our public servants are paid fairly while also attracting more competitive applicants to these critical roles. I established a White House Task Force on Worker Organizing and Empowerment, led by Vice President Harris, to strengthen the right to organize and bargain collectively, including for Federal Government workers. Further, I launched a Government-wide initiative to promote diversity, equity, and inclusion in the Federal workforce so that it reflects all the communities we serve. My Administration finalized a rule prohibiting Federal agencies from considering an applicant's current or past pay when determining their future salaries—eliminating gender and racial pay inequities that can otherwise follow those seeking a job in public service. To ensure all Federal employees feel safe and supported in the workplace, I took executive action to protect Federal employees from discrimination on the basis of their gender identity or sexual orientation—pushing the Federal Government to become the model employer it can and should be.

My Administration has also taken significant action to provide student debt relief—giving our public servants some well-deserved breathing room. I fixed the Public Service Loan Forgiveness Program, which was designed to make sure public servants could get their student loans forgiven once they made payments for 10 years. When I took office, only 7,000 public servants had had their debts forgiven—it was past time to fix it. Thanks to my Administration's reforms, nearly 876,000 public servants have had their student debts forgiven.

We must do more to protect our Nation's public servants, who provide the expertise necessary for our democracy to function. To guarantee that career civil servants can continue to share their expertise and keep our democracy working, my Administration finalized a rule to protect the jobs of 2.2 million career civil servants—no matter who is in office.

Meanwhile, my Administration is working to empower and strengthen the career Federal workforce more than ever before. My Budget includes a focus on hiring more public servants into mission critical jobs, helping provide better services to the American people.

This week, I hope all the public servants feel proud. Across the country, we are seeing new shovels in the ground, people going to work, and families thriving. People are feeling pride in their hometowns and their country again and in knowing that we can get big things done when we work together. We are witnessing the greatest comeback our country has ever known—in no small part because of the hard work and dedication of our Nation's public servants.

NOW, THEREFORE, I, JOSEPH R. BIDEN JR., President of the United States of America, by virtue of the authority vested in me by the Constitution and the laws of the United States, do hereby proclaim May 5 through May 11, 2024, as Public Service Recognition Week. I call upon all Americans to celebrate public servants and their contributions this week and throughout the year.

IN WITNESS WHEREOF, I have hereunto set my hand this third day of May, in the year of our Lord two thousand twenty-four, and of the Independence of the United States of America the two hundred and forty-eighth.

[FR Doc. 2024-10526

Filed 5-10-24; 8:45 am]

Billing code 3395-F4-P